ENVIRONMENTAL PROTECTION AGENCY

[EPA-HQ-OPP-2009-0628; FRL-8794-9]

Pesticides; Draft Guidance for Pesticide Registrants on Pesticide Drift Labeling

AGENCY: Environmental Protection Agency (EPA).

ACTION: Notice of availability.

SUMMARY: The Agency is announcing the availability of and seeking public comment on two documents - a draft Pesticide Registration Notice (draft PR Notice) entitled “Pesticide Drift Labeling” (PRN 2009-X) and a draft explanatory document entitled “Pesticide Drift Labeling Interpretation.” PR Notices are issued by the Office of Pesticide Programs (OPP) to inform pesticide registrants and other interested persons about important policies, procedures, and registration related decisions, and serve to provide guidance to pesticide registrants and OPP personnel. This particular draft PR Notice provides guidance to the applicants and registrants of certain pesticide products for revising labeling statements intended to protect people and other non-target organisms and sites from adverse effects that may be caused by off-target pesticide drift. The draft explanatory document provides guidance for state and tribal regulatory officials responsible for enforcement of user compliance with the requirements of pesticide labeling on how to interpret the labeling statements contained in the draft PR Notice. An additional supporting document, entitled “Draft PR Notice 2009-X: Additional Information and Questions for Commenters,” provides background and supplemental information that explain the Agency's rationale for its proposed guidance on drift labeling. This document also requests responses by readers to specific questions concerning draft PR Notice 2009-X. All three documents are available in the public docket.

DATES: Comments must be received on or before January 4, 2010.

ADDRESSES: Submit your comments, identified by docket identification (ID) number EPA-HQ-OPP-2009-0628, by one of the following methods:

• Federal eRulemaking Portal: http://www.regulations.gov. Follow the on-line instructions for submitting comments.

• Mail: Office of Pesticide Programs (OPP) Regulatory Public Docket (7502P), Environmental Protection Agency, 1200 Pennsylvania Ave., NW., Washington, DC 20460-0001.

• Delivery: OPP Regulatory Public Docket (7502P), Environmental Protection Agency, Rm. S-4400, One Potomac Yard (South Bldg.), 2777 S. Crystal Dr., Arlington, VA. Deliveries are only accepted during the Docket Facility's normal hours of operation (8:30 a.m. to 4 p.m., Monday through Friday, excluding legal holidays). Special arrangements should be made for deliveries of boxed information. The Docket Facility telephone number is (703) 305-5805.

Instructions: Direct your comments to docket ID number EPA-HQ-OPP-2009-0628. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The regulations.gov website is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available at http://www.regulations.gov. Although listed in the index, some information is not publicly available, e.g., CBI or other information whose disclosure is restricted by statute. Certain other material, such as copyrighted material, is not placed on the Internet and will be publicly available only in hard copy form. Publicly available docket materials are available either in the electronic docket at http://www.regulations.gov, or, if only available in hard copy, at the OPP Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

FOR FURTHER INFORMATION CONTACT: Véronique LaCapra, Pesticide Re-evaluation Division (7508P), Office of Pesticide Programs, Environmental Protection Agency, 1200 Pennsylvania Ave., NW., Washington, DC 20460-0001; telephone number: (703) 605-1525; fax number: (703) 308-8005; e-mail address: lacapra.veronique@epa.gov.

SUPPLEMENTARY INFORMATION:

I. General Information

A. Does this Action Apply to Me

This action is directed to those persons who manufacture, distribute, sell, apply, or regulate pesticide products that are for use outdoors, including agricultural, commercial, and residential products (NAICS codes 32532 and 32561). Since other entities may also be interested, the Agency has not attempted to describe all the specific entities that may be affected by this action. The North American Industrial Classification System (NAICS) codes have been provided to assist you and others in determining whether this action might apply to certain entities. If you have any questions regarding the information in this notice, consult the person listed under FOR FURTHER INFORMATION CONTACT.

B. What Should I Consider as I Prepare My Comments for EPA?

1. Submitting CBI. Do not submit this information to EPA through regulations.gov or e-mail. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

EPA has identified questions about the PR Notice on which the Agency would like to receive specific input from commenters. These questions are presented in a supporting document entitled “Draft PR Notice 2009-X: Additional Information and Questions for Commenters,” which is available in the public docket.

II. What Guidance Does this PR Notice Provide?

EPA's purpose in issuing draft PR Notice 2009-X is to provide guidance to registrants and applicants for registration on labeling statements concerning pesticide drift, and to inform the public of EPA's policies with regard to the prevention of pesticide drift. The draft PR Notice proposes labeling statements and formats intended to improve communication of drift management requirements to pesticide applicators and as a result, to improve protection of people and other non-target organisms and sites from potential adverse effects that may be caused by off-target pesticide drift. The recommended statements should appear on products whose application may result in drift.

The draft PR Notice contains two types of statements: (1) A general drift statement containing a risk-protective standard which varies according to product type, and (2) examples of product-specific drift use restrictions, along with a format for presenting these statements on product labeling. The draft PR Notice also informs registrants about the procedures they should use to amend their registrations to adopt these statements. The Agency believes the use of these statements and formats on labels will provide users consistent, understandable, and enforceable directions about how to protect human health and the environment from harm that might result from pesticide drift.

Along with draft PR Notice 2009-X, EPA is issuing for comment a draft “Pesticide Drift Labeling Interpretation” guidance document, which provides guidance to state and tribal officials about how EPA intends the new drift labeling statements to be interpreted, as well as typical examples of how the labeling could be interpreted in real-world spray drift cases.

A supporting document entitled “Draft PR Notice 2009-X: Additional Information and Questions for Commenters” is also being made available in the public docket. This document contains background information on pesticide drift, and a description of current and planned EPA actions to address drift, including the PR Notice, guidance to state enforcement officials on interpreting the new labeling, information on best management practices to reduce drift, and EPA's drift reduction technology (DRT) project. The document also provides a reader's guide to the draft PR Notice, including a description of key terms and concepts, explanatory rationales, and specific questions on which EPA is seeking input from stakeholders.

III. Do PR Notices Contain Binding Requirements?

The draft PR Notice discussed in this notice is intended to provide guidance to EPA personnel and decision-makers and to pesticide registrants. While the requirements in the statutes and Agency regulations are binding on EPA and the applicants, the PR Notice is not binding on EPA personnel, pesticide registrants and applicants, or the public. EPA may depart from the guidance where circumstances warrant and without prior notice. Likewise, pesticide registrants may assert that the guidance is not appropriate generally or not applicable to a specific pesticide or situation.

The draft Notice is not intended to limit EPA’s authority under FIFRA to require additional mitigation measures, on a case-by case basis, when appropriate. Nor is it intended to limit the authority of a state or tribe to impose additional restrictions on the use of a pesticide.

List of Subjects

Environmental protection, Administrative practice and procedure, Agricultural commodities, Pesticides and pests, Pesticide drift, Spray drift, Labeling.

Dated: October 26, 2009.
Debra Edwards,
Director, Office of Pesticide Programs.

[FR Doc. E9-26594 Filed 11-3-09; 8:45 am]

BILLING CODE 6560-50-S